DEPARTMENT OF COMMERCE

Office of Inspector General; Performance Review Board Membership

The following individuals are eligible to serve on the Performance Review Board (PRB) in accordance with the Department of Commerce Senior Executive Service Performance Appraisal System and the Office of Inspector General's PRB Charter:

Edward L. Blansitt, Deputy Inspector General

Elizabeth T. Barlow, Counsel to the Inspector General

Jill A. Gross, Assistant Inspector General for Inspections & Evaluations

Judith J. Gordon, Assistant Inspector General for Systems Evaluation

Debbie Cureton, Assistant Inspector General for Auditing, National Science Foundation

Peter McClintock, Deputy Inspector General, Small Business Administration

James Ebbitt, Deputy Inspector General, U.S. Agency for International Development

Denise A. Yaag,
Executive Secretary, Performance Review Board, Office of Inspector General.

[FR Doc. 01-29941 Filed 12-3-01; 8:45 am]

BILLING CODE 3510-55-M